DEPARTMENT OF HEALTH AND HUMAN SERVICES

National Institutes of Health

Center for Scientific Review; Amended Notice of Meeting

Notice is hereby given of a change in the meeting of the Cardiovascular and Sleep Epidemiology Study Section, October 2, 2013, 8:00 a.m. to October 2, 2013, 6:00 p.m., Melrose Hotel, 2430 Pennsylvania Avenue NW., Washington, DC 20037 which was published in the Federal Register on September 3, 2013, 78 FR 170, Pgs. 54259-54261.

The meeting will be held at National Institutes of Health, 6701 Rockledge Dr., Bethesda, MD 20892. The meeting will start on December 16, 2013 at 9:30 a.m. and end on December 16, 2013 at 6:00 p.m. The meeting is closed to the public.

Dated: October 25, 2013.
Anna Snouffer,
Deputy Director, Office of Federal Advisory Committee Policy.

[FR Doc. 2013-25897 Filed 10-30-13; 8:45 am]

BILLING CODE 4140-01-P